DEPARTMENT OF AGRICULTURE

National Agricultural Statistics Service

Notice of Intent To Request an Extension of a Currently Approved Information Collection

AGENCY: National Agricultural Statistics Service, USDA.

ACTION: Notice and request for comments.

SUMMARY: In accordance with the Paperwork Reduction Act of 1995 (Pub. L. No. 104-13) and Office of Management and Budget regulations at 5 CFR part 1320 (60 FR 44978, August 29, 1995), this notice announces the intent of the National Agricultural Statistics Service (NASS) to request an extension of a currently approved information collection, the Supplemental Qualifications Statement.

DATES: Comments on this notice must be received by October 6, 2000 to be assured of consideration.

ADDITIONAL INFORMATION OR COMMENTS: Contact Rich Allen, Associate Administrator, National Agricultural Statistics Service, U.S. Department of Agriculture, 1400 Independence Avenue SW, Room 4117 South Building, Washington, D.C. 20250-2000, (202) 720-4333.

SUPPLEMENTARY INFORMATION: Title: Supplemental Qualifications Statement.

OMB Control Number: 0535-0209.

Expiration Date of Approval: October 31, 2000.

Type of Request: To extend a currently approved information collection.

Abstract: Under Interagency Agreement Number DOA-1, between the Department of Agriculture and Office of Personnel Management, the Administrative and Financial Management Staff examines, rates, and certifies applicants for Agricultural Statistician positions, GS-1530 and Mathematical Statistician (Agricultural) GS-1529 positions within the National Agricultural Statistics Service. The Interagency Agreement was made under provisions of 5 U.S.C. Section 1104, as amended by Pub. L. No. 104-52 (1995).

Resumes, curriculum vitae, and the “Optional Application for Federal Employment” (OF-612) are general purpose forms used to evaluate applicants for positions in the Federal service. While these forms request specific information about an applicant, they do not always obtain detailed references to those knowledge, skills, and abilities (KSA's) that are critical to the job. The Supplemental Qualifications Statement for agricultural statistician and mathematical statistician positions (agricultural) allows applicants the opportunity to describe their achievements or accomplishments as they relate to the required KSA's.

Estimate of Burden: Public reporting burden for this collection of information is estimated to average 3 hours per response.

Respondents: Individual Job Applicants.

Estimated Number of Respondents: 200.

Estimated Total Annual Burden on Respondents: 600 hours.

Copies of this information collection and related instructions can be obtained without charge from Ginny McBride, the Agency OMB Clearance Officer, at (202) 720-5778.

Comments: Comments are invited on: (a) whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent to: Ginny McBride, Agency OMB Clearance Officer, U.S. Department of Agriculture, 1400 Independence Avenue SW, Room 5336 South Building, Washington, D.C. 20250-2009. All responses to this notice will become a matter of public record and be summarized in the request for OMB approval.

Signed at Washington, D.C., July 14, 2000.
Rich Allen,
Associate Administrator.

[FR Doc. 00-19504 Filed 8-1-00; 8:45 am]

BILLING CODE 3410-20-P